DEPARTMENT OF HEALTH AND HUMAN SERVICES

Centers for Disease Control and Prevention

[30Day-07-02]

Agency Forms Undergoing Paperwork Reduction Act Review; Correction

A notice announcing a list of information collection requests under review by the Office of Management and Budget (OMB) in compliance with the Paperwork Reduction Act (44 U.S.C. Chapter 35). The State and Local Area Integrated Telephone Survey (SLAITS) was published in the Federal Register on November 27, 2001, (66 FR 59254). This notice is corrected as follows:

On page 59254, in the first column, the last paragraph, the OMB number should be changed from 0920-0416 to 0920-0406.

All other information and requirements of the November 27, 2001, notice remain the same.

Dated: November 28, 2001.
Nancy E. Cheal,
Acting Associate Director for Policy, Planning, and Evaluation, Centers for Disease Control and Prevention.

[FR Doc. 01-29952 Filed 12-3-01; 8:45 am]

BILLING CODE 4163-18-P